DEPARTMENT OF COMMERCE

National Institute of Standards and Technology

Manufacturing Extension Partnership Advisory Board

AGENCY: National Institute of Standards and Technology, Commerce.

ACTION: Notice of open meeting.

SUMMARY: The National Institute of Standards and Technology (NIST) announces that the Manufacturing Extension Partnership (MEP) Advisory Board will hold an open meeting on Wednesday, June 30, 2021.

DATES: The meeting will be held on Wednesday, June 30, 2021 from 9:00 a.m. to 5:00 p.m. Central Time.

ADDRESSES: The meeting will be held at the Hyatt Regency Tulsa Downtown, 100 East Second Street, Tulsa, Oklahoma, 74103. Please note admittance instructions in the SUPPLEMENTARY INFORMATION section below. This meeting could switch to a virtual format only. Interested parties should be sure to check the NIST MEP Advisory Board website for the most up-to-date information at http://www.nist.gov/mep/about/advisory-board.cfm. Everyone who registers and provides contact information will receive notice if there is a change to the meeting venue from in-person to virtual.

FOR FURTHER INFORMATION CONTACT: Cheryl L. Gendron, Manufacturing Extension Partnership, National Institute of Standards and Technology, 100 Bureau Drive, Mail Stop 4800, Gaithersburg, Maryland 20899-4800; telephone number (301) 975-2785; email: cheryl.gendron@nist.gov.

SUPPLEMENTARY INFORMATION: The MEP Advisory Board is authorized under Section 3003(d) of the America COMPETES Act (Pub. L. 110-69), as amended by the American Innovation and Competitiveness Act, Public Law 114-329 sec. 501 (2017), and codified at 15 U.S.C. 278k(m), in accordance with the provisions of the Federal Advisory Committee Act, as amended, 5 U.S.C. App. The Hollings Manufacturing Extension Partnership Program (Program) is a unique program consisting of Centers in all 50 states and Puerto Rico with partnerships at the federal, state and local levels. By statute, the MEP Advisory Board provides the NIST Director with: (1) Advice on the activities, plans and policies of the Program; (2) assessments of the soundness of the plans and strategies of the Program; and (3) assessments of current performance against the plans of the Program.

Background information on the MEP Advisory Board is available at http://www.nist.gov/mep/about/advisory-board.cfm.

Pursuant to the Federal Advisory Committee Act, as amended, 5 U.S.C. App., notice is hereby given that the MEP Advisory Board will hold an open meeting on Wednesday, June 30, 2021 from 9:00 a.m. to 5:00 p.m. Central Time. The meeting agenda will include an update on the MEP programmatic operations, as well as provide guidance and advice on current activities related to the MEP National Network™ 2017-2022 Strategic Plan. The agenda may change to accommodate Committee business. The final agenda will be posted on the MEP Advisory Board website at http://www.nist.gov/mep/about/advisory-board.cfm.

Individuals and representatives of organizations who would like to offer comments and suggestions related to the MEP Advisory Board's business are invited to request a place on the agenda. Approximately 15 minutes will be reserved for public comments at the end of the meeting. Speaking times will be assigned on a first-come, first-served basis. The amount of time per speaker will be determined by the number of requests received but is likely to be no more than three to five minutes each. Requests must be submitted by email to cheryl.gendron@nist.gov and must be received by June 25, 2021 to be considered. The exact time for public comments will be included in the final agenda that will be posted on the MEP Advisory Board website at http://www.nist.gov/mep/about/advisory-board.cfm. Questions from the public will not be considered during this period. Speakers who wish to expand upon their oral statements, those who wished to speak but could not be accommodated on the agenda or those who are/were unable to attend the meeting are invited to submit written statements electronically by email to cheryl.gendron@nist.gov.

Admittance Instructions: Anyone wishing to attend the MEP Advisory Board meeting must submit their name, email address and phone number to Cheryl Gendron (Cheryl.Gendron@nist.gov or 301-975-2785) no later than Friday, June 26, 2021, 5:00 p.m. Eastern Time.

Alicia Chambers,
NIST Executive Secretariat.

[FR Doc. 2021-09408 Filed 5-4-21; 8:45 am]

BILLING CODE 3510-13-P